DEPARTMENT OF JUSTICE

Notice of Lodging of Consent Decree Pursuant to the Clean Air Act

Notice is hereby given that a proposed consent decree in United States v. Cook Development Corp., et al., Civil Action No. 3:06-CV-617, was lodged on August 1, 2007 with the United States District Court for the District of Oregon. The United States filed this action pursuant to the Clean Air Act seeking civil penalties and injunctive relief for violations of the National Emissions Standards for Hazardous Air Pollutants governing the removal and disposal of asbestos. The United States alleges that the Defendant Birch Creek Construction renovated the Commodore Apartments in The Dalles, Oregon without complying with the work standards set forth in 40 CFR 61.141-61.156.

The Consent Decree resolves the United States' claims against Birch Creek Construction by requiring that defendant pay a civil penalty of $7,500 and a commitment not to engage in any asbestos demolition or renovation activity in the future.

The Department of Justice will receive, for a period of thirty (30) days from the date of this publication, comments relating to the proposed consent decree. Comments should be addressed to the Assistant Attorney General, Environment and Natural Resources Division, and either e-mailed to pubcomment-ees.enrd@usdoj.gov or mailed to P.O. Box 7611, U.S. Department of Justice, Washington, DC 20044-7611, and should refer to United States v. Cook Development Corp., DOJ Ref. #90-5-2-1-08803.

The proposed consent decree may be examined at the office of the United States attorney, 100 SW. Third Avenue, Suite 600, Portland, OR 97204-2904, and at the Region X Office of the Environmental Protection Agency, 1200 Sixth Avenue, Seattle, WA 98101. During the public comment period, the proposed consent decree may also be examined on the Department of Justice Web site, at http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $3.00 (25 cents per page reproduction cost) payable to the U.S. Treasury or, if by e-mail or fax, forward a check in that amount to the Consent Decree Library at the stated address.

W. Benjamin Fisherow,
Deputy Chief, Environmental Enforcement Section, Environment and Natural Resources Division.

[FR Doc. 07-3866 Filed 8-8-07; 8:45 am]

BILLING CODE 4410-15-M